DEPARTMENT OF COMMERCE

International Trade Administration]

[A-489-807]

Certain Steel Concrete Reinforcing Bars From Turkey; Preliminary Results and Preliminary Partial Rescission of Antidumping Duty Administrative Review

AGENCY: Import Administration, International Trade Administration, Department of Commerce.

SUMMARY: The Department of Commerce (the Department) is conducting an administrative review of the antidumping duty order on certain steel concrete reinforcing bars (rebar) from Turkey with respect to two companies, Ekinciler Demir ve Celik Sanayi A.S. and Ekinciler Dis Ticaret A.S. (collectively “Ekinciler”) and Kaptan Demir Celik Endustrisi ve Ticaret A.S. (Kaptan).¹ The review covers the period April 1, 2007 through March 25, 2008.

¹ Certain companies other than Ekinciler and Kaptan are being rescinded from this administrative review.

We preliminarily determine that sales made by Ekinciler have not been made at below normal value (NV), while those made by Kaptan have. If these preliminary results are adopted in the final results of this review, we will instruct U.S. Customs and Border Protection (CBP) to assess antidumping duties on all appropriate entries.

Interested parties are invited to comment on these preliminary results. We will issue the final results no later than 120 days from the date of publication of this notice.

DATES: Effective Date: May 6, 2009.

FOR FURTHER INFORMATION CONTACT: Hector Rodriguez or Holly Phelps, AD/CVD Operations, Office 2, Import Administration—Room 1870, International Trade Administration, U.S. Department of Commerce, 14th Street and Constitution Avenue, NW., Washington, DC 20230; telephone: (202) 482-0629 or (202) 482-0656, respectively.

SUPPLEMENTARY INFORMATION:

Background

On April 1, 2008, the Department published in the Federal Register a notice of “Opportunity To Request Administrative Review” of the antidumping duty order on rebar from Turkey. See Antidumping or Countervailing Duty Order, Finding, or Suspended Investigation; Opportunity To Request Administrative Review, 73 FR 17317 (Apr. 1, 2008).

In accordance with 19 CFR 351.213(b)(2), on April 30, 2008, the Department received requests to conduct an administrative review of the antidumping duty order on rebar from Turkey from three producers/exporters of rebar, Ekinciler, Habas Sinai ve Tibbi Gazlar Istihsal Endustrisi A.S. (Habas), and Kaptan. In their April 30, 2008, requests, Ekinciler and Habas requested that the Department revoke the antidumping duty order on rebar from Turkey with regard to them based on an absence of dumping, pursuant to 19 CFR 351.222(b)(2).

Also on April 30, 2008, the domestic interested parties, Nucor Corporation, Gerdau AmeriSteel Corporation and Commercial Metals Company, requested an administrative review for the three producers/exporters identified above, as well as for Ege Celik Endustrisi Sanayi ve Ticaret A.S. and Ege Dis Ticaret A.S. (collectively “Ege Celik”), Izmir Demir Celik Sanayi A.S. (IDC), Kroman Celik Sanayi A.S. (Kroman), and Nursan Celik Sanayi ve Haddecilik A.S./Nursan Dis Ticaret A.S. (collectively “Nursan”), pursuant to section 751(a) of the Tariff Act of 1930, as amended (the Act), and in accordance with 19 CFR 351.213(b)(1).

On June 4, 2008, the Department initiated an administrative review for the seven companies listed above. See Initiation of Antidumping and Countervailing Duty Administrative Reviews and Requests for Revocation in Part, 73 FR 31813 (June 4, 2008).

In June 2008, four exporters (i.e., Ege Celik, IDC, Kroman, and Nursan) informed the Department that they had no shipments or entries of subject merchandise during the period of review (POR). Because we confirmed this with CBP, we are preliminarily rescinding the review with respect to these companies. For further discussion, see the “Partial Rescission of Review” section of this notice.

In July 2008, we issued the antidumping duty questionnaire to Ekinciler, Habas, and Kaptan. We received responses to the questionnaire from Ekinciler and Kaptan in September 2008.

In November 2008, we rescinded the administrative review with respect to Habas because the antidumping duty order was partially revoked in the 2006-2007 administrative review with respect to Habas, effective April 1, 2007. For further discussion, see the “Partial Rescission of Review” section of this notice.

Also in November 2008, we postponed the preliminary results of this review until no later than April 30, 2009. See Certain Steel Concrete Reinforcing Bars From Turkey; Notice of Extension of Time Limits for Preliminary Results of Antidumping Duty Administrative Review, 73 FR 66218 (Nov. 7, 2008).

In December 2008, the International Trade Commission (ITC) determined, pursuant to section 751(c) of the Act, that revocation of this order would not be likely to lead to the continuation or recurrence of material injury to an industry in the United States within a reasonably foreseeable time. See Steel Concrete Reinforcing Bar From Turkey; Determination, 73 FR 77841 (Dec. 19, 2008) (ITC Final). See also Steel Concrete Reinforcing Bars From Turkey, Inv. No. 701-TA-745 (Second Review), USITC Pub. 4 (January 2009) (USITC Pub. 4052). As a result of the ITC's negative determination, the Department revoked the order on rebar from Turkey on January 5, 2009, effective as of March 26, 2008 (i.e., the fifth anniversary of the date of publication in the Federal Register of the notice of continuation of this antidumping duty order). See Revocation of Antidumping Duty Order: Certain Steel Concrete Reinforcing Bars From Turkey, 74 FR 266 (Jan. 5, 2009) (Revocation Notice).

During the period December 2008 through April 2009, we issued supplemental questionnaires to Ekinciler and Kaptan. We received responses to these questionnaires from January 2009 through April 2009.

Scope of the Order

The product covered by this order is all stock deformed steel concrete reinforcing bars sold in straight lengths and coils. This includes all hot-rolled deformed rebar rolled from billet steel, rail steel, axle steel, or low-alloy steel. It excludes (i) plain round rebar, (ii) rebar that a processor has further worked or fabricated, and (iii) all coated rebar. Deformed rebar is currently classifiable under subheadings 7213.10.000 and 7214.20.000 of the Harmonized Tariff Schedule of the United States (HTSUS). The HTSUS subheadings are provided for convenience and customs purposes. The written description of the scope of this order is dispositive.

Period of Review

The POR is April 1, 2007, through March 25, 2008.

Partial Rescission of Review

As noted above, in April 2008, the Department received timely requests, in accordance with 19 CFR 351.213(b)(1), from the domestic interested parties to conduct a review for Ege Celik, IDC, Kroman, and Nursan, and in June 2008 the Department initiated an administrative review of these four companies. During this same month, each of these respondents informed the Department that it did not export rebar to the United States during the POR. We have confirmed this with CBP. See the April 30, 2009, memorandum to the file from Hector Rodriguez, Analyst, entitled, “Confirmation of No Shipments for Certain Companies in the 2007-2008 Antidumping Duty Administrative Review on Certain Steel Concrete Reinforcing Bars from Turkey.” Therefore, in accordance with 19 CFR 351.213(d)(3), and consistent with the Department's practice, we are preliminarily rescinding our review with respect to these companies. See, e.g., Certain Frozen Warmwater Shrimp from Thailand: Final Results and Final Partial Rescission of Antidumping Duty Administrative Review, 72 FR 52065, 52067 (Sept. 12, 2007); and Certain Steel Concrete Reinforcing Bars From Turkey; Final Results, Rescission of Antidumping Duty Administrative Review in Part, and Determination To Revoke in Part, 70 FR 67665, 67666 (Nov. 8, 2005).

In November 2008, we rescinded the administrative review with respect to Habas because the antidumping duty order was revoked in the 2006-2007 administrative review with respect to Habas, effective April 1, 2007. See Certain Steel Concrete Reinforcing Bars from Turkey; Partial Rescission of Antidumping Duty Administrative Review, 73 FR 69607 (Nov. 19, 2008).

Comparisons to Normal Value

To determine whether sales of rebar from Turkey were made in the United States at less than NV, we compared the export price (EP) to the NV, as described in the “Normal Value” section of this notice. When making comparisons in accordance with section 771(16) of the Act, we considered all products sold in the home market as described in the “Scope of the Order” section of this notice, above, that were in the ordinary course of trade for purposes of determining appropriate product comparisons to U.S. sales.

Product Comparisons

In accordance with section 771(16) of the Act, we first attempted to compare products produced by the same company and sold in the U.S. and home markets that were identical with respect to the following characteristics: form, grade, size, and industry standard specification. Where there were no home market sales of foreign like product that were identical in these respects to the merchandise sold in the United States, we compared U.S. products with the most similar merchandise sold in the home market based on the characteristics listed above, in that order of priority.

Export Price

We used EP methodology for all U.S. sales, in accordance with section 772(a) of the Act, because the subject merchandise was sold directly to the first unaffiliated purchaser in the United States prior to importation, and constructed export price methodology was not otherwise warranted based on the facts of record.

Regarding U.S. date of sale, Ekinciler and Kaptan each argued that the Department should use the contract date as the date of sale for its U.S. sales in this review. After analyzing the data on the record, we determine that the appropriate U.S. date of sale for Ekinciler is the contract date because, as in the three previous administrative reviews for Ekinciler, we find that the terms of sale (i.e., price and quantity) were set at the contract date, given that the terms did not change prior to invoicing or shipment. See Certain Steel Concrete Reinforcing Bars from Turkey; Preliminary Results of Antidumping Duty Administrative Review and Notice of Intent to Revoke in Part, 73 FR 24535, 24538 (May 5, 2008) (2006-2007 Preliminary Results), unchanged in Certain Steel Concrete Reinforcing Bars From Turkey; Final Results of Antidumping Duty Administrative Review and Determination To Revoke in Part, 73 FR 66218 (Nov. 7, 2008) (2006-2007 Final Results); Certain Steel Concrete Reinforcing Bars from Turkey; Preliminary Results of Antidumping Duty Administrative Review and New Shipper Review and Notice of Intent to Revoke in Part, 72 FR 25253, 25256 (May 4, 2007) (2005-2006 Preliminary Results), unchanged in Certain Steel Concrete Reinforcing Bars From Turkey; Final Results of Antidumping Duty Administrative Review and New Shipper Review and Determination To Revoke in Part, 72 FR 62630, (Nov. 6, 2007) (2005-2006 Final Results), and Certain Steel Concrete Reinforcing Bars from Turkey; Preliminary Results and Partial Rescission of Antidumping Duty Administrative Review, 71 FR 26455, 26458 (May 5, 2006) (2004-2005 Preliminary Results), unchanged in Certain Steel Concrete Reinforcing Bars From Turkey; Final Results and Rescission of Antidumping Duty Administrative Review in Part, 71 FR 65082 (Nov. 7, 2006) (2004-2005 Final Results). Furthermore, we note that there were no changes in Ekinciler's sales process between this and prior segments of the proceeding. However, for Kaptan, we determine that the appropriate U.S. date of sale is the earlier of invoice or shipment date because we found that Kaptan's contracts are changeable based on our findings that the terms of sale were not set at the contract date during the 2005-2006 administrative review. See 2005-2006 Preliminary Results, 72 FR at 25256, unchanged in 2005-2006 Final Results.

A. Ekinciler

We based EP on packed prices to the first unaffiliated purchaser in the United States. We made deductions from the starting price for foreign inland freight, customs overtime fees, crane charges, terminal charges, inspection fees, ocean freight expenses, U.S. customs duties, and U.S. brokerage and handling expenses, in accordance with section 772(c)(2)(A) of the Act. Although Ekinciler reported revenue received by an affiliated party for certain port services performed for the vessels used to transport rebar to the United States, we made no adjustment for this revenue because the affiliate did not pass on the revenue to Ekinciler.

B. Kaptan

We based EP on packed prices to the first unaffiliated purchaser in the United States. We disallowed Kaptan's duty drawback claim for purposes of the preliminary results because Kaptan did not provide certain information requested by the Department in relation to this claim. However, we have afforded Kaptan an additional opportunity to provide this information, and we will consider Kaptan's response for purposes of our final results.

We made adjustments to the starting price for foreign inland freight expenses, inspection charges, loading and handling charges, foreign commission charges, ocean freight expenses, marine insurance, U.S. brokerage and handling expenses, and U.S. customs duties, where appropriate, in accordance with section 772(c)(2)(A) of the Act. Regarding loading and handling charges, Kaptan reported that it used an affiliated party for loading services during the POR. Because the amounts paid by Kaptan to the affiliate differed significantly from the amounts that the affiliate charged to unaffiliated parties, we did not use the affiliate's charges and instead used the arm's-length price to unaffiliated parties. In addition, we disallowed certain freight-related revenue received from another affiliated service provider because Kaptan failed to demonstrate that this revenue was based upon an arm's-length transaction.

Normal Value

A. Home Market Viability and Selection of Comparison Markets

In order to determine whether there is a sufficient volume of sales in the home market to serve as a viable basis for calculating NV (i.e., the aggregate volume of home market sales of the foreign like product is five percent or more of the aggregate volume of U.S. sales), we compared the volume of each respondent's home market sales of the foreign like product to the volume of U.S. sales of subject merchandise, in accordance with section 773(a)(1)(B) of the Act. Based on this comparison, we determined that each respondent had a viable home market during the POR. Consequently, we based NV on home market sales.

For each respondent, in accordance with our practice, we excluded home market sales of non-prime merchandise made during the POR from our preliminary analysis based on the limited quantity of such sales in the home market and the fact that no such sales were made to the United States during the POR. See, e.g., 2006-2007 Preliminary Results, 71 FR 26455, unchanged in 2006-2007 Final Results; 2005-2006 Preliminary Results, 72 FR at 25257, unchanged in 2005-2006 Final Results; and 2004-2005 Preliminary Results, 71 FR at 26459, unchanged in 2004-2005 Final Results.

B. Affiliated-Party Transactions and Arm's-Length Test

During the POR Ekinciler and Kaptan made sales of rebar in the home market to affiliated parties, as defined in section 771(33) of the Act. Consequently, we tested these sales to ensure that they were made at arm's-length prices, in accordance with 19 CFR 351.403(c). To test whether the sales to affiliates were made at arm's-length prices, we compared the unit prices of sales to affiliated and unaffiliated customers net of all movement charges, direct selling expenses, and packing expenses. Pursuant to 19 CFR 351.403(c) and in accordance with the Department's practice, where the price to that affiliated party was, on average, within a range of 98 to 102 percent of the price of the same or comparable merchandise sold to the unaffiliated parties at the same level of trade (LOT), we determined that the sales made to the affiliated party were at arm's-length. See Antidumping Proceedings: Affiliated Party Sales in the Ordinary Course of Trade, 67 FR 69186 (Nov. 15, 2002) (establishing that the overall ratio calculated for an affiliate must be between 98 and 102 percent in order for sales to be considered in the ordinary course of trade and used in the NV calculation). Sales to affiliated customers in the home market that were not made at arm's-length prices were excluded from our analysis because we considered these sales to be outside the ordinary course of trade. See section 771(15) of the Act and 19 CFR 351.102(b).

C. Cost of Production Analysis

Pursuant to section 773(b)(2)(A)(ii) of the Act, for Ekinciler and Kaptan there were reasonable grounds to believe or suspect that these respondents made home market sales at prices below their costs of production (COPs) in this review because the Department had disregarded sales that failed the cost test for these companies in the most recently completed segment of this proceeding in which these companies participated (i.e., the 2005-2006 administrative review) at the time of the initiation of this administrative review. See 2005-2006 Final Results, 72 FR at 62632. As a result, the Department initiated an investigation to determine whether these companies made home market sales during the POR at prices below their COPs.

1. Calculation of COP

In accordance with section 773(b)(3) of the Act, we calculated COP based on the sum of the respondents' cost of materials and fabrication for the foreign like product, plus amounts for general and administrative (G&A) expenses and interest expenses. See the “Test of Home Market Sales Prices” section below for treatment of home market selling expenses.

We relied on the COP information provided by Ekinciler in its questionnaire response. We relied on the COP information provided by Kaptan in its questionnaire response, except for the following instances where the information was not appropriately quantified or valued:

i. We adjusted the reported cost of raw materials to include import duties that were not collected by the Turkish government due to the subsequent re-exportation of the material and the claimed duty drawback adjustment.

ii. Because Kaptan's financial revenue exceeded its expense, we did not include an amount for financial expense in the calculation of COP. This is in accordance with the Department's practice of determining that, when a company earns enough financial income that it recovers all of its financial expense, that company did not have a resulting cost for financing during that period. See, e.g., 2005-2006 Preliminary Results, 72 FR at 25257, unchanged in 2005-2006 Final Results.

For further discussion of these adjustments, see the memorandum from Stephanie Arthur, Accountant, to Neal M. Halper, Director, Office of Accounting, entitled, “Cost of Production and Constructed Value Calculation Adjustments for the Preliminary Results—Kaptan Demir Celik Endustrisi Ve Ticaret A.S.,” dated April 30, 2009.

2. Test of Home Market Sales Prices

We compared the weighted-average COP figures to home market prices of the foreign like product, as required under section 773(b) of the Act, to determine whether these sales had been made at prices below the COP. On a product-specific basis, we compared the COP to home market prices, less any applicable movement charges, selling expenses, and packing expenses.

In determining whether to disregard home market sales made at prices below the COP, we examined whether such sales were made: (1) In substantial quantities within an extended period of time; and (2) at prices which permitted the recovery of all costs within a reasonable period of time. See sections 773(b)(1)(A) and (B) of the Act.

3. Results of the COP Test

Pursuant to section 773(b)(2)(C)(i) of the Act, where less than 20 percent of a respondent's sales of a given product were at prices less than the COP, we did not disregard any below-cost sales of that product because we determined that the below-cost sales were not made in “substantial quantities.” Where 20 percent or more of a respondent's sales of a given product were at prices below the COP, we determined that sales of that model were made in “substantial quantities” within an extended period of time (as defined in section 773(b)(2)(B) of the Act), in accordance with section 773(b)(2)(C)(i) of the Act. In such cases, we also determined that such sales were not made at prices which would permit recovery of all costs within a reasonable period of time, in accordance with section 773(b)(2)(D) of the Act. Therefore, for purposes of this administrative review, we disregarded these below-cost sales for Ekinciler and Kaptan and used the remaining sales as the basis for determining NV, in accordance with section 773(a)(1) of the Act.

D. Level of Trade

In accordance with section 773(a)(1)(B)(i) of the Act, to the extent practicable, we determine NV based on sales in the comparison market at the same LOT as EP. The NV LOT is that of the starting-price sales in the comparison market or, when NV is based on constructed value, that of the sales from which we derive selling expenses, G&A expenses, and profit. For EP, the U.S. LOT is also the level of the starting-price sale, which is usually from the exporter to the unaffiliated U.S. customer.

To determine whether NV sales are at a different LOT than EP sales, we examine stages in the marketing process and selling functions along the chain of distribution between the producer and the unaffiliated customer. If the comparison-market sales are at a different LOT and the difference affects price comparability, as manifested in a pattern of consistent price differences between the sales on which NV is based and comparison-market sales at the LOT of the export transaction, we make an LOT adjustment under section 773(a)(7)(A) of the Act.

Both respondents in this review claimed that they sold rebar at a single LOT in their home and U.S. markets. Ekinciler and Kaptan reported that they sold rebar directly to various categories of customers in the home market. Regarding U.S. sales, both respondents reported only EP sales to the United States to a single customer category (i.e., unaffiliated traders). Similar to their home market channels of distribution, Ekinciler and Kaptan reported direct sales to U.S. customers.

To determine whether sales to any of these customer categories were made at different LOTs, we examined the stages in the marketing process and selling functions along the chain of distribution for each of these respondents. Regarding home market sales, each of the respondents reported that it performed identical selling functions across customer categories in the home market. After analyzing the data on the record with respect to these functions, we find that the respondents performed the same selling functions for their home market customers, regardless of customer category or channel of distribution. Accordingly, we find that the respondents made all sales at a single marketing stage (i.e., at one LOT) in the home market.

Regarding U.S. sales, each of the respondents reported that it only made sales to one customer category through one channel of distribution in the U.S. market and, thus, identical selling functions were performed for all sales. Therefore, after analyzing the data on the record with respect to these functions, we find that the respondents made all sales at a single marketing stage (i.e., at one LOT) in the U.S. market.

Although each of the respondents provided certain additional services for U.S. sales (e.g., brokerage and handling, port-related services, etc.) and not for home market sales, we did not find these differences to be material selling function distinctions significant enough to warrant a separate LOT for either respondent. Therefore, after analyzing the selling functions performed in each market, we find that the distinctions in selling functions are not material and thus, that the home market and U.S. LOTs are the same. Accordingly, we determined that sales in the U.S. and home markets during the POR for each respondent were made at the same LOT, and as a result, no LOT adjustment is warranted for either of the respondents.

E. Calculation of Normal Value

1. Ekinciler

We based NV on the starting prices to home market customers. Where appropriate, we made deductions from the starting price for billing adjustments. In addition, where appropriate, we made deductions for inland freight expenses, in accordance with section 773(a)(6)(B) of the Act.

Pursuant to section 773(a)(6)(C)(iii) of the Act and 19 CFR 351.410(b), we made circumstance-of-sale adjustments for credit expenses, bank charges, and exporter association fees. We deducted home market packing costs and added U.S. packing costs, in accordance with sections 773(a)(6)(A) and (B) of the Act.

Where appropriate, we made an adjustment to NV to account for differences in physical characteristics of the merchandise, in accordance with section 773(a)(6)(C)(ii) of the Act and 19 CFR 351.411(a).

2. Kaptan

We based NV on the starting prices to home market customers. Where appropriate, we made deductions from the starting price for billing adjustments. In addition, where appropriate, we made deductions for inland freight expenses, in accordance with section 773(a)(6)(B) of the Act.

Pursuant to section 773(a)(6)(C)(iii) of the Act and 19 CFR 351.410(b), we made circumstance-of-sale adjustments for credit expenses, bank charges, and exporter association fees. We deducted home market packing costs and added U.S. packing costs, in accordance with sections 773(a)(6)(A) and (B) of the Act.

Where appropriate, we made an adjustment to NV to account for differences in physical characteristics of the merchandise, in accordance with section 773(a)(6)(C)(ii) of the Act and 19 CFR 351.411(a).

Currency Conversion

We made currency conversions into U.S. dollars pursuant to section 773A(a) of the Act and 19 CFR 351.415. Although the Department's preferred source for daily exchange rates is the Federal Reserve Bank, the Federal Reserve Bank does not track or publish exchange rates for New Turkish Lira. Therefore, we made currency conversions based on exchange rates from the Dow Jones Reuters Business Interactive LLC (trading as Factiva).

Preliminary Results of the Review

We preliminarily determine that the following margins exist for the respondents during the period April 1, 2007, through March 25, 2008:

Manufacturer/producer/exporter | Percent margin
Ekinciler Demir ve Celik Sanayi A.S./Ekinciler Dis Ticaret A.S | 0.35
Kaptan Demir Celik Endustrisi ve Ticaret A.S | 7.55

Disclosure and Public Hearing

The Department will disclose to parties the calculations performed in connection with these preliminary results within five days of the date of publication of this notice. See 19 CFR 351.224(b). Pursuant to 19 CFR 351.309, interested parties may submit case briefs not later than 30 days after the date of publication of this notice. Rebuttal briefs, limited to issues raised in the case briefs, may be filed not later than 35 days after the date of publication of this notice. Parties who submit case briefs or rebuttal briefs in this proceeding are requested to submit with each argument: (1) A statement of the issue; (2) a brief summary of the argument; and (3) a table of authorities.

Interested parties who wish to request a hearing or to participate if one is requested must submit a written request to the Assistant Secretary for Import Administration, Room 1870, within 30 days of the date of publication of this notice. Requests should contain: (1) The party's name, address and telephone number; (2) the number of participants; and (3) a list of issues to be discussed. See 19 CFR 351.310(c). Issues raised in the hearing will be limited to those raised in the respective case briefs. The Department will issue the final results of the administrative review, including the results of its analysis of issues raised in any written briefs, not later than 120 days after the date of publication of this notice, pursuant to section 751(a)(3)(A) of the Act.

Assessment

Upon completion of the administrative review, the Department shall determine, and CBP shall assess, antidumping duties on all appropriate entries, in accordance with 19 CFR 351.212. The Department will issue appropriate appraisement instructions for the companies subject to this review directly to CBP 15 days after the date of publication of the final results of this review.

Pursuant to 19 CFR 351.212(b)(1), we calculated importer-specific assessment rates for each respondent based on the ratio of the total amount of antidumping duties calculated for the examined sales to the total entered value of those sales.

We will instruct CBP to assess antidumping duties on all appropriate entries covered by these reviews if any importer-specific assessment rate calculated in the final results of these reviews is above de minimis (i.e., at or above 0.50 percent). Pursuant to 19 CFR 351.106(c)(2), we will instruct CBP to liquidate without regard to antidumping duties any entries for which the assessment rate is de minimis (i.e., less than 0.50 percent). See 19 CFR 351.106(c)(1).

The final results of this review shall be the basis for the assessment of antidumping duties on entries of merchandise covered by the final results of this review.

The Department clarified its “automatic assessment” regulation on May 6, 2003 (68 FR 23954). This clarification will apply to entries of subject merchandise during the POR produced by companies included in these preliminary results of review for which the reviewed companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Requirements

In December 2008, the ITC determined, pursuant to section 751(c) of the Act, that revocation of this order would not be likely to lead to the continuation or recurrence of material injury to an industry in the United States within a reasonably foreseeable time. See ITC Final and USITC Publication 4052. As a result of the ITC's negative determination, the Department revoked the order on rebar from Turkey on January 5, 2009, effective as of March 26, 2008 (i.e., the fifth anniversary of the date of publication in the Federal Register of the notice of continuation of this antidumping duty order). See Revocation Notice. Consequently, the collection of cash deposits of antidumping duties on entries of the subject merchandise is no longer required.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing the results of this administrative review in accordance with sections 751(a)(1) and 777(i)(1) of the Act.

Dated: April 30, 2009.
Ronald K. Lorentzen,
Acting Assistant Secretary for Import Administration.

[FR Doc. E9-10513 Filed 5-5-09; 8:45 am]

BILLING CODE 3510-DS-P